DEPARTMENT OF TRANSPORTATION

Federal Aviation Administration

14 CFR Part 39

[Docket No. FAA-2020-0586; Product Identifier 2020-NM-066-AD]

RIN 2120-AA64

Airworthiness Directives; The Boeing Company Airplanes

AGENCY: Federal Aviation Administration (FAA), DOT.

ACTION: Notice of proposed rulemaking (NPRM).

SUMMARY: The FAA proposes to supersede Airworthiness Directive (AD) 2018-14-02, which applies to certain The Boeing Company Model 777-200, -200LR, -300, and -300ER series airplanes. AD 2018-14-02 requires an inspection for foam insulation on the dripshield above the overhead panel support structure and replacement if necessary. For certain airplanes, AD 2018-14-02 also requires replacement of foam insulation on the overhead panel support structure. Since the FAA issued AD 2018-14-02, additional areas of Boeing Material Specification (BMS) 8-39 flexible urethane foam were found on the overhead panel support structure. This proposed AD would continue to require the actions in AD 2018-14-02, and, for certain airplanes, this proposed AD would require an inspection of the foam insulation on the overhead panel support structure, and replacement if necessary. The FAA is proposing this AD to address the unsafe condition on these products.

DATES: The FAA must receive comments on this proposed AD by September 11, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Boeing Commercial Airplanes, Attention: Contractual & Data Services (C&DS), 2600 Westminster Blvd., MC 110-SK57, Seal Beach, CA 90740-5600; telephone 562-797-1717; internet https://www.myboeingfleet.com. You may view this service information at the FAA, Airworthiness Products Section, Operational Safety Branch, 2200 South 216th St., Des Moines, WA. For information on the availability of this material at the FAA, call 206-231-3195. It is also available on the internet at https://www.regulations.gov by searching for and locating Docket No. FAA-2020-0586.

Examining the AD Docket

You may examine the AD docket on the internet at https://www.regulations.gov by searching for and locating Docket No. FAA-2020-0586; or in person at Docket Operations between 9 a.m. and 5 p.m., Monday through Friday, except Federal holidays. The AD docket contains this NPRM, any comments received, and other information. The street address for Docket Operations is listed above. Comments will be available in the AD docket shortly after receipt.

FOR FURTHER INFORMATION CONTACT: Julie Linn, Aerospace Engineer, Cabin Safety and Environmental Systems Section, FAA, Seattle ACO Branch, 2200 South 216th St., Des Moines, WA 98198; phone and fax: 206-231-3584; email: Julie.Linn@faa.gov.

SUPPLEMENTARY INFORMATION:

Comments Invited

The FAA invites you to send any written relevant data, views, or arguments about this proposal. Send your comments to an address listed under the ADDRESSES section. Include “Docket No. FAA-2020-0586; Product Identifier 2020-NM-066-AD” at the beginning of your comments. The most helpful comments reference a specific portion of the proposal, explain the reason for any recommended change, and include supporting data. The FAA will consider all comments received by the closing date and may amend this NPRM because of those comments.

Except for Confidential Business Information (CBI) as described in the following paragraph, and other information as described in 14 CFR 11.35, the FAA will post all comments received, without change, to https://www.regulations.gov, including any personal information you provide. The FAA will also post a report summarizing each substantive verbal contact received about this proposed AD.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to the person identified in the FOR FURTHER INFORMATION CONTACT section. Any commentary that the FAA receives which is not specifically designated as CBI will be placed in the public docket for this rulemaking.

Discussion

The FAA issued AD 2018-14-02, Amendment 39-19322 (83 FR 31650, July 9, 2018) (“AD 2018-14-02”), for certain The Boeing Company Model 777-200, -200LR,

-300, and -300ER series airplanes. AD 2018-14-02 requires an inspection for foam insulation on the dripshield above the overhead panel support structure and replacement if necessary. For certain airplanes, AD 2018-14-02 also requires replacement of foam insulation on the overhead panel support structure. AD 2018-14-02 resulted from reports that additional areas of BMS 8-39 flexible urethane foam were found during a routine inspection pursuant to a previously issued AD. The FAA issued AD 2018-14-02 to address BMS 8-39 flexible urethane foam found in certain areas of an airplane, which, if exposed to an ignition source, could cause loss of control of the airplane during a fire.

Actions Since AD 2018-14-02 Was Issued

Since the FAA issued AD 2018-14-02, additional areas of BMS 8-39 flexible urethane foam were found on the overhead panel support structure in the flight compartment. Based on those findings, the FAA has determined that the inspections required by AD 2018-14-02 are not adequate to ensure the BMS 8-39 foam insulation was fully removed from the overhead panel support structure on certain airplanes, and a new detailed inspection and replacement are required.

Related Service Information Under 1 CFR Part 51

The FAA reviewed Boeing Special Attention Service Bulletin 777-25-0621, Revision 2, dated February 28, 2020. This service information describes procedures for removal and replacement of the foam on the overhead panel support structure; a general visual inspection for foam insulation on the dripshield above the overhead panel support structure; a detailed inspection for foam insulation on the overhead panel support structure; and replacement if necessary. This service information is reasonably available because the interested parties have access to it through their normal course of business or by the means identified in the ADDRESSES section.

FAA's Determination

The FAA is proposing this AD because the agency evaluated all the relevant information and determined the unsafe condition described previously is likely to exist or develop in other products of the same type design.

Proposed AD Requirements

Although this proposed AD does not explicitly restate the requirements of AD 2018-14-02, this proposed AD would retain all of the requirements of AD 2018-14-02. Those requirements are referenced in the service information identified previously, which, in turn, is referenced in paragraph (g) of this proposed AD. This proposed AD would also require accomplishment of the actions identified as “RC” (required for compliance) in the Accomplishment Instructions of Boeing Special Attention Service Bulletin 777-25-0621, Revision 2, dated February 28, 2020, described previously, except for any differences identified as exceptions in the regulatory text of this proposed AD.

For information on the procedures and compliance times, see this service information at https://www.regulations.gov by searching for and locating Docket No. FAA-2020-0586.

Costs of Compliance

The FAA estimates that this proposed AD affects 132 airplanes of U.S. registry. The FAA estimates the following costs to comply with this proposed AD:

Estimated Costs
Action | Labor cost | Parts cost | Cost per product | Cost on U.S. operators
Inspection and replacement of foam insulation (retained actions from AD 2018-14-02) | Up to 32 work-hours × $85 per hour = Up to $2,720 | $5,611 | Up to $8,331 | Up to $1,099,692
Detailed inspection and replacement (new proposed action) | Up to 18 work-hours × $85 per hour = Up to $1,530 | 5,840 | Up to 7,370 | Up to 972,840

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2018-14-02, Amendment 39-19322 (83 FR 31650, July 9, 2018), and adding the following new AD:

The Boeing Company:

Docket No. FAA-2020-0586; Product Identifier 2020-NM-066-AD.

(a) Comments Due Date

The FAA must receive comments on this AD action by September 11, 2020.

(b) Affected ADs

This AD replaces AD 2018-14-02, Amendment 39-19322 (83 FR 31650, July 9, 2018) (“AD 2018-14-02”).

(c) Applicability

This AD applies to The Boeing Company Model 777-200, -200LR, -300, and -300ER series airplanes, certificated in any category, as identified in Boeing Special Attention Service Bulletin 777-25-0621, Revision 2, dated February 28, 2020.

(d) Subject

Air Transport Association (ATA) of America Code 25, Equipment/furnishings.

(e) Unsafe Condition

This AD was prompted by reports that additional areas of Boeing Material Specification (BMS) 8-39 flexible urethane foam were found on the overhead panel support structure in the flight compartment. The degradation of the foam over time increases the potential for an uncontrolled fire below the passenger compartment floor and other locations outside the areas covered by smoke detection and fire protection systems. The FAA is issuing this AD to address BMS 8-39 flexible urethane foam found in certain areas of an airplane, which, if exposed to an ignition source, could cause loss of control of the airplane during a fire.

(f) Compliance

Comply with this AD within the compliance times specified, unless already done.

(g) Required Actions

Except as specified by paragraph (h) of this AD: At the applicable times specified in paragraph 1.E., “Compliance,” of Boeing Special Attention Service Bulletin 777-25-0621, Revision 2, dated February 28, 2020, do all applicable actions identified as “RC” (required for compliance) in, and in accordance with, the Accomplishment Instructions of Boeing Special Attention Service Bulletin 777-25-0621, Revision 2, dated February 28, 2020.

(h) Exceptions to Service Information Specifications

(1) Where Boeing Special Attention Service Bulletin 777-25-0621, Revision 2, dated February 28, 2020, uses the phrase “the Revision 2 date of this service bulletin,” this AD requires using “the effective date of AD 2018-14-02.”

(2) For any Group 1 Configuration 3 airplane as identified in Boeing Special Attention Service Bulletin 777-25-0621, Revision 2, dated February 28, 2020, no action is required by this AD, provided that airplane remains in that configuration.

(i) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by The Boeing Company Organization Designation Authorization (ODA) that has been authorized by the Manager, Seattle ACO Branch, FAA, to make those findings. To be approved, the repair method, modification deviation, or alteration deviation must meet the certification basis of the airplane, and the approval must specifically refer to this AD.

(4) AMOCs approved previously for AD 2018-14-02 are approved as AMOCs for the corresponding provisions of Boeing Special Attention Service Bulletin 777-25-0621, Revision 2, dated February 28, 2020, that are required by paragraph (g) of this AD.

(5) For service information that contains steps that are labeled as Required for Compliance (RC), the provisions of paragraphs (i)(5)(i) and (ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(j) Related Information

(1) For more information about this AD, contact Julie Linn, Aerospace Engineer, Cabin Safety and Environmental Systems Section, FAA, Seattle ACO Branch, 2200 South 216th St., Des Moines, WA 98198; phone and fax: 206-231-3584; email: Julie.Linn@faa.gov.

(2) For service information identified in this AD, contact Boeing Commercial Airplanes, Attention: Contractual & Data Services (C&DS), 2600 Westminster Blvd., MC 110-SK57, Seal Beach, CA 90740-5600; telephone 562-797-1717; internet https://www.myboeingfleet.com. You may view this referenced service information at the FAA, Airworthiness Products Section, Operational Safety Branch, 2200 South 216th St., Des Moines, WA. For information on the availability of this material at the FAA, call 206-231-3195.

Issued on July 13, 2020.
Lance T. Gant, Director,
Compliance & Airworthiness Division, Aircraft Certification Service.

[FR Doc. 2020-16203 Filed 7-27-20; 8:45 am]

BILLING CODE 4910-13-P